DEPARTMENT OF COMMERCE

National Oceanic and Atmospheric Administration

RIN 0648-XC126

Pacific Fishery Management Council; Public Meeting

AGENCY: National Marine Fisheries Service (NMFS), National Oceanic and Atmospheric Administration (NOAA), Commerce.

ACTION: Notice of public meeting.

SUMMARY: The Pacific Fishery Management Council (Pacific Council) will hold a trawl catch share program gear workshop (workshop), which is open to the public.

DATES: The workshop will be held Wednesday, August 29, 2012 from 1 p.m. until business for the day is completed. The workshop will reconvene Thursday, August 30, 2012 from no earlier than 8 a.m. until 4 p.m. or business for the day has been completed.

ADDRESSES: The meeting will be held at the Sheraton Portland Airport in the Mount Saint Helens Room, 8235 NE Airport Way, Portland OR 97220, telephone: (503) 281-2500.

Council address: Pacific Council, 7700 NE Ambassador Place, Suite 101, Portland, OR 97220-1384.

FOR FURTHER INFORMATION CONTACT: Mr. LB Boydstun, Fishery Advisor: (916) 844-4358 or the Pacific Council Office at (503) 820-2280.

SUPPLEMENTARY INFORMATION: The primary purpose of the workshop is to review the gear restrictions (including area of use) which apply under the recently-implemented Trawl Fishery Rationalization program, and discuss the need for such restrictions in the context of that program. The workshop will include scoping various gear restriction alternatives that were recommended by the Trawl Rationalization Regulatory Evaluation Committee at the November 2011 meeting of the Pacific Council. A workshop report will be prepared by Pacific Council staff for Pacific Council consideration at (or following) its November 2012 Pacific Council meeting in Costa Mesa, CA. No management actions will be decided in the workshop. The task will be to develop recommendations for consideration by the Pacific Council at its November meeting in Costa Mesa, CA.

Although non-emergency issues not contained in the meeting agenda may arise during the workshop, those issues may not be the subject of formal action during this meeting. Final workshop recommendations will be restricted to those issues specifically listed in this notice and any issues arising after publication of this notice that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 at least 5 days prior to the meeting date.

Dated: July 23, 2012.
Tracey L. Thompson,
Acting Deputy Director, Office of Sustainable Fisheries, National Marine Fisheries Service.

[FR Doc. 2012-18255 Filed 7-25-12; 8:45 am]

BILLING CODE 3510-22-P